SOCIAL SECURITY ADMINISTRATION

[Docket No. SSA 2017-0022]

Privacy Act of 1974; Matching Program

AGENCY: Social Security Administration (SSA).

ACTION: Notice of a new matching program.

SUMMARY: In accordance with the provisions of the Privacy Act, as amended, this notice announces a new computer matching program that we are currently conducting with the Office of Child Support Enforcement (OCSE).

DATES: The deadline to submit comments on the proposed matching program is 30 days from the date of publication of this notice. The matching program will be effective on November 1, 2017, or once a minimum of 30 days after publication of this notice has elapsed, whichever is later. The matching program will expire on October 31, 2018.

ADDRESSES: Interested parties may comment on this notice by either telefaxing to (410) 966-0869, writing to Mary Ann Zimmerman, Acting Executive Director, Office of Privacy and Disclosure, Office of the General Counsel, Social Security Administration, 617 Altmeyer Building, 6401 Security Boulevard, Baltimore, MD 21235-6401, or email at Mary.Ann.Zimmerman@ssa.gov. All comments received will be available for public inspection at this address.

FOR FURTHER INFORMATION CONTACT: Interested parties may submit general questions about the matching program to Mary Ann Zimmerman, Acting Executive Director, Office of Privacy and Disclosure, Office of the General Counsel, by any of the means shown above.

SUPPLEMENTARY INFORMATION: The Computer Matching and Privacy Protection Act of 1988 (Public Law (Pub. L.) 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

We have taken action to ensure that all of our computer matching programs comply with the requirements of the Privacy Act, as amended.

Mary Ann Zimmerman,
Acting Executive Director, Office of Privacy and Disclosure, Office of the General Counsel.

Participating Agencies: SSA and OCSE.

Authority for Conducting the Matching Program: The legal authorities for disclosures under this agreement are the Social Security Act (Act) and the Privacy Act of 1974, as amended. Subsection 453(j)(4) of the Act provides that OCSE shall provide the Commissioner of SSA with all information in the NDNH. 42 U.S.C. 653(j)(4). SSA has authority to use data to determine entitlement to and eligibility for programs it administers pursuant to sections 453(j)(4), 1631(e)(1)(B) and(f), and 1860D-14(a)(3) of the Act. 42 U.S.C. 653(j)(4), 1383(e)(1)(B) and (f), and 1395w-114(a)(3). Disclosures under this agreement shall be made in accordance with 5 U.S.C. 552a(b)(3), and in compliance with the matching procedures in 5 U.S.C. 552a(o), (p), and (r).

The Act provides that the determination of whether a Part D eligible individual residing in a state is a subsidy-eligible individual shall be determined under the state plan for medical assistance under section 1860D-14(a)(3)(B)(1) of the Act. 42 U.S.C. 1395w-114(a)(3)(B)(1).

SSA has independent authority to collect this information regarding Medicare Parts A-D via sections 202-205, 223, 226, 228, 1611, 1631, 1818, 1836, 1839, 1840, and 1860D-1 to 1860D-15 of the Act (42 U.S.C. 402-405, 423, 426, 428, 1382, 1383, 1395i-2, 1395o, 1395r, 1395s, and 1395w-101 to 1395w-115).

Purpose(s): This computer matching agreement, hereinafter “agreement,” governs a matching program between the Office of Child Support Enforcement (OCSE) and the Social Security Administration (SSA). The agreement covers information exchange operations between OCSE and SSA that will provide SSA with quarterly wage and unemployment insurance information located in the National Directory of New Hires (NDNH) to allow SSA to determine eligibility of applicants for Extra Help (low-income subsidy assistance) under the Medicare Prescription Drug, Improvement, and Modernization Act of 2003 (Pub. L. 108-173) (Extra Help). This agreement also governs the use, treatment, and safeguarding of the information exchanged. OCSE is the “source agency” and SSA is the “recipient agency,” as defined by the Privacy Act. 5 U.S.C. 552a(a)(9) and (11).

This agreement assists SSA in (1) determining eligibility of applicants for Extra Help; (2) redetermining eligibility of existing Extra Help beneficiaries during periodic screening; and (3) administering the Extra Help program.

The Privacy Act provides that no record contained in a system of record (SOR) may be disclosed for use in a computer matching program except pursuant to a written agreement containing specified provisions. 5 U.S.C. 552a(o). SSA and OCSE are executing this agreement to comply with the Privacy Act of 1974, as amended, and the regulations and guidance promulgated thereunder. OCSE and SSA have been parties to matching agreements and recertifications for this purpose since April 1, 2005. Appendix A provides background information about these prior agreements.

The SSA component responsible for this agreement and its contents is the Office of Privacy and Disclosure. The responsible component for OCSE is the Division of Federal Systems.

This agreement is applicable to personnel, facilities, and information systems of SSA and OCSE involved in the processing and storage of NDNH information. Personnel are defined as employees, contractors, or agents of OCSE and SSA.

This agreement includes a security addendum and four appendices.

Categories of Individuals: The individuals whose information is involved in this matching program are new hires, quarterly wage earners, and recipients of unemployment insurance.

Categories of Records:

SSA will provide OCSE the following data elements electronically in the Finder File:

• COSSN (SSN)

• Name

OCSE will provide electronically to SSA the following data elements from the NDNH quarterly wage file:

• Quarterly wage record identifier

• For employees:

(1) Name (first, middle, last)

(2) SSN

(3) Verification request code

(4) Processed date

(5) Non-verifiable indicator

(6) Wage amount

(7) Reporting period

• For employers of individuals in the quarterly wage file of the NDNH:

(1) Name

(2) Employer identification number

(3) Address(es)

• Transmitter Agency Code

• Transmitter State Code

• State or Agency Name

OCSE will provide electronically to SSA the following data elements from the NDNH unemployment insurance file:

• Unemployment insurance record identifier

• Processed date

• SSN

• Verification request code

• Name (first, middle, last)

• Address

• Unemployment insurance benefit amount

• Reporting period

• Transmitter Agency Code

• Transmitter State Code

• State or Agency Name

Data Elements SSA updates in the OCSEFITM table, if there is a match:

• QW record identifier

• For employees:

(1) Employee's SSN

(2) Employee's wage amount

(3) Reporting period

• For employers of individuals:

(1) Employer identification number

(2) Employer's name

• UI identifier:

(1) Claimant SSN

(2) Unemployment insurance benefit amount

(3) Reporting period

(4) Transmitter State Name

System(s) of Records: SSA collects and maintains this information in the Medicare Database (MDB) system of records, No. 60-0321, published at 69 FR 77816 (December 28, 2004) and 71 FR 42159-42164 (July 25, 2006). The MDB contains information related to Medicare Part A, Part B, Medicare Advantage Part C, and Medicare Part D.

OCSE will match SSA information in the MDB against the quarterly wage and unemployment insurance information furnished by state and federal agencies maintained in its system of records “OCSE National Directory of New Hires” (NDNH), No. 09-80-0381, established by publication in the Federal Register on January 5, 2011 at 76 FR 560. The disclosure of NDNH information by OCSE to SSA constitutes a “routine use,” as defined by the Privacy Act. 5 U.S.C. 552a(b)(3). Routine use (#9) of the SOR authorizes disclosure of NDNH information to SSA, 76 FR 560, 562 (January 5, 2011).

[FR Doc. 2017-23326 Filed 10-25-17; 8:45 am]

BILLING CODE 4191-02-P